DEPARTMENT OF THE TREASURY

Bureau of the Fiscal Service

Proposed Collection: Information Collected Through Investigative Inquiry Forms

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A). Currently the Bureau of the Fiscal Service within the Department of the Treasury is soliciting comments concerning the Investigative Inquiry Forms.

DATES: Written comments should be received on or before December 20, 2013 to be assured of consideration.

ADDRESSES: Direct all written comments to Bureau of the Fiscal Service, Bruce A. Sharp, 200 Third Street A4-A, Parkersburg, WV 26106-1328, or bruce.sharp@bpd.treas.gov. The opportunity to make comments online is also available at www.pracomment.gov.

FOR FURTHER INFORMATION CONTACT: Requests for additional information or copies should be directed to Bruce A. Sharp, Bureau of the Fiscal Service, 200 Third Street A4-A, Parkersburg, WV 26106-1328, (304) 480-8150.

SUPPLEMENTARY INFORMATION:

Title: Investigative Inquiry Forms.

OMB Number: 1535-0141.

Form Number: PD F 5518—Investigative Request for Personal Information.

PD F 5519—Investigative Request for Law Enforcement Data.

PD F 5520—Investigative Request for Educational Registrar and Dean of Students Records.

PD F 5521—Investigative Request for Employment Data and Supervisor Information.

Abstract: The information is requested while conducting background investigations to provide a general overview of the character and reputation of employees and contractors.

Current Actions: None.

Type of Review: Revision.

Affected Public: Individuals.

Estimated Number of Respondents: 750.

Estimated Time per Respondent: 10 minutes.

Estimated Total Annual Burden Hours: 125.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: October 18, 2013.
Bruce A. Sharp,
Bureau Clearance Officer.

[FR Doc. 2013-24815 Filed 10-22-13; 8:45 am]

BILLING CODE 4810-39-P